DEPARTMENT OF HEALTH AND HUMAN SERVICES

National Institutes of Health

National Center for Advancing Translational Sciences; Notice of Meeting

Pursuant to section 10(a) of the Federal Advisory Committee Act, as amended (5 U.S.C. App.), notice is hereby given of a meeting of the Cures Acceleration Network Review Board.

The meeting will be open to the public, viewing virtually by WebEx.

Individuals can view and access the meeting by the link below. https://ncatsevents.webex.com/ncatsevents/onstage/g.php?t=a&d=661895283.

1. Go to “Event Status” on the left hand side of page, then click (Register) to complete required registration prior to joining this event.

2. “Join Event Now” on the right hand side of the page will automatically populate with your First Name, Last Name, and Email Address. Click “Join Now.”

Event number: 661 895 283.

Call-in toll-free number (US/Canada): 1-855-244-8681.

Call-in toll number (US/Canada): 1-650-479-3207.

Access code: 661 895 283.

Name of Committee: Cures Acceleration Network Review Board.

Date: December 12, 2013.

Time: 11:00 a.m. to 2:00 p.m.

Agenda: The CAN Review Board will meet virtually to discuss how NCATS might optimally exercise its flexible research authority by using transactions other than grants, cooperative agreements and contracts.

Place: National Institutes of Health, One Democracy Plaza, 6701 Democracy Boulevard, Bethesda, MD 20892 (Virtual Meeting).

Contact Person: Danilo A Tagle, Ph.D., Executive Secretary, National Center for Advancing Translational Sciences, 1 Democracy Plaza, Room 992, Bethesda, MD 20892, 301-594-8064, Danilo.Tagle@nih.gov.

Any interested person may file written comments with the committee by forwarding the statement to the Contact Person listed on this notice. The statement should include the name, address, telephone number and when applicable, the business or professional affiliation of the interested person.

Dated: October 30, 2013.
David Clary,
Program Analyst, Office of Federal Advisory Committee Policy.

[FR Doc. 2013-26310 Filed 11-1-13; 8:45 am]

BILLING CODE 4140-01-P